DEPARTMENT OF COMMERCE

International Trade Administration

[A-570-979]

Crystalline Silicon Photovoltaic Cells, Whether or Not Assembled Into Modules, From the People's Republic of China: Final Results of Antidumping Duty Administrative Review and Final Determination of No Shipments; 2015-2016

AGENCY: Enforcement and Compliance, International Trade Administration, Department of Commerce.

SUMMARY: The Department of Commerce (Commerce) continues to find that manufacturers/exporters of crystalline silicon photovoltaic cells, whether or not assembled into modules (solar cells) sold solar products at less than normal value during the period of review (POR), December 1, 2015, through November 30, 2016.

DATES: Applicable July 27, 2018.

FOR FURTHER INFORMATION CONTACT: Jeff Pedersen and Krisha Hill, AD/CVD Operations, Office IV, Enforcement and Compliance, International Trade Administration, Department of Commerce, 1401 Constitution Avenue NW, Washington, DC 20230; telephone: (202) 482-2769 and (202) 482-4037.

SUPPLEMENTARY INFORMATION:

Background

On January 9, 2018, Commerce published in the Federal Register the preliminary results of the 2015-2016 administrative review of the antidumping duty order on solar cells from the People's Republic of China (China).¹ For events subsequent to the Preliminary Results, see Commerce's Issues and Decision Memorandum.² The final weighted-average dumping margins are listed below in the “Final Results of Review” section of this notice.

¹ See Crystalline Silicon Photovoltaic Cells, Whether or Not Assembled Into Modules, From the People's Republic of China: Preliminary Results of Antidumping Duty Administrative Review and Preliminary Determination of No Shipments; 2015-2016, 83 FR 1018 (January 9, 2018) (Preliminary Results), and accompanying Preliminary Decision Memorandum (PDM).

² See Memorandum, “Issues and Decision Memorandum for the Final Results of the 2015-2016 Antidumping Duty Administrative Review of Crystalline Silicon Photovoltaic Cells, Whether or Not Assembled into Modules, From the People's Republic of China,” (Issues and Decision Memorandum), dated concurrently with this notice.

Commerce has exercised its discretion to toll deadlines for the duration of the closure of the Federal Government from January 20 through 22, 2018.³ On May 8, 2018, in accordance with section 751(a)(3)(A) of the Tariff Act of 1930, as amended (the Act), Commerce extended the deadline for issuing the final results by 60 days,⁴ postponing the final results until July 11, 2018.

³ See Memorandum, “Deadlines Affected by the Shutdown of the Federal Government,” dated January 23, 2018 (Tolling Memorandum). All deadlines in this segment of the proceeding have been extended by three days.

⁴ See Memorandum, “2015-2016 Antidumping Duty Administrative Review of Certain Crystalline Silicon Photovoltaic Cells, Whether or Not Assembled into Modules, from the People's Republic of China: Extension of Deadline for Final Results of Antidumping Duty Administrative Review,” dated May 8, 2018.

Scope of the Order

The merchandise covered by this order is crystalline silicon photovoltaic cells and modules, laminates, and panels, consisting of crystalline silicon photovoltaic cells, whether or not partially or fully assembled into other products, including, but not limited to, modules, laminates, panels and building integrated materials.⁵ Merchandise covered by this order is currently classified in the Harmonized Tariff Schedule of the United States (HTSUS) under subheadings 8501.61.0000, 8507.20.80, 8541.40.6020, 8541.40.6030, and 8501.31.8000. Although these HTSUS subheadings are provided for convenience and customs purposes, the written description of the scope of this order is dispositive.

⁵ For a complete description of the scope of the order, see Issues and Decision Memorandum.

Analysis of Comments Received

All issues raised in the case and rebuttal briefs filed by parties in this review are addressed in the Issues and Decision Memorandum, which is hereby adopted by this notice. A list of the issues that parties raised, and to which we responded in the Issues and Decision Memorandum, follows as an appendix to this notice. The Issues and Decision Memorandum is a public document and is on file electronically via Enforcement and Compliance's Antidumping and Countervailing Duty Centralized Electronic Service System (ACCESS). ACCESS is available to registered users at https://access.trade.gov and to all parties in the Central Records Unit, Room B8024 of the main Department of Commerce building. In addition, a complete version of the Issues and Decision Memorandum can be accessed directly on the internet at http://enforcement.trade.gov/frn/. The paper copy and electronic version of the Issues and Decision Memorandum are identical in content.

Affiliation and Single Entity Determination

We preliminarily found that Changzhou Trina Solar Energy Co., Ltd./Trina Solar (Changzhou) Science and Technology Co., Ltd./Yancheng Trina Solar Energy Technology Co., Ltd./Changzhou Trina Solar Yabang Energy Co., Ltd./Turpan Trina Solar Energy Co., Ltd./Hubei Trina Solar Energy Co., Ltd. are affiliated with Trina Solar (Hefei) Science and Technology Co., Ltd., pursuant to section 771(33)(F) of the Act and that all of these companies should be treated as a single entity, i.e., Trina Solar (Hefei) Science and Technology Co., Ltd. (Trina), pursuant to 19 CFR 351.401(f)(1)-(2).⁶ No interested party has disputed this treatment, and so these findings remain unchanged for these final results.

⁶ See Preliminary Results and accompanying PDM at 6.

Changes Since the Preliminary Results ⁷

⁷ See Issues and Decision Memorandum at comments 2 and 10.

Based on a review of the record and comments received from interested parties regarding our Preliminary Results, and for the reasons explained in the Issues and Decision Memorandum, we made revisions to our preliminary calculations of the weighted-average dumping margin for the mandatory respondent Trina.

Final Determination of No Shipments

In the Preliminary Results, we found that the following eight companies had no shipments during the POR: De-Tech Trading Limited HK, Dongguan Sunworth Solar Energy Co., Ltd., Jiawei Solarchina Co., Ltd., Ningbo ETDZ Holdings, Ltd., Shenzhen Sungold Solar Co., Ltd., Taizhou BD Trade Co., Ltd., Toenergy Technology Hangzhou Co., Ltd., and Wuxi Tianran Photovoltaic Co., Ltd.⁸ We did not receive comments from interested parties regarding our preliminary finding on no shipments. Consistent with Commerce's assessment practice in non-market economy cases, we completed the review with respect to the above-named companies. Based on the certifications submitted by the aforementioned companies, and our analysis of Customs and Border Protection (CBP) information,⁹ we continue to determine that these companies did not have any reviewable transactions during the POR. As noted in the “Assessment” section below, Commerce will issue appropriate instructions with respect to these companies to CBP based on our Final Results.¹⁰ In addition, these companies will maintain their rate from the most recent segment in which they participated.

⁸ See Preliminary Results, 83 FR 1018.

⁹ See PDM at 4-5.

¹⁰ See Non-Market Economy Antidumping Proceedings: Assessment of Antidumping Duties, 76 FR 65694 (October 24, 2011) (Assessment of Antidumping Duties); see also the “Assessment” section of this notice, below.

Separate Rates

In the Preliminary Results, we found that evidence provided by Trina and 21 other companies/company groups supported finding an absence of both de jure and de facto government control, and, therefore, we preliminarily granted a separate rate to each of these companies/company groups.¹¹ We received no information since the issuance of the Preliminary Results that provides a basis for reconsidering these determinations with respect to the separate rate status of these 22 companies/company groups. Therefore, for the final results, we continue to find that these entities are eligible for separate rates.

¹¹ See Preliminary Results, 83 FR 1018; see also PDM at 11-12.

Final Results of Review

We determine that the following weighted-average dumping margins exist for the POR:

Exporter | Weighted- average dumping margin (percent)
Changzhou Trina Solar Energy Co., Ltd./Trina Solar (Changzhou) Science and Technology Co., Ltd./Yancheng Trina Solar Energy Technology Co., Ltd./Changzhou Trina Solar Yabang Energy Co., Ltd./Turpan Trina Solar Energy Co., Ltd./Hubei Trina Solar Energy Co., Ltd./Trina Solar (Hefei) Science and Technology Co., Ltd | 15.85
Anji DaSol Solar Energy Science & Technology Co., Ltd | 15.85
Chint Solar (Zhejiang) Co., Ltd | 15.85
ET Solar Energy Limited | 15.85
Hangzhou Sunny Energy Science and Technology Co., Ltd | 15.85
Hengdian Group DMEGC Magnetics Co. Ltd | 15.85
JA Solar Technology Yangzhou Co., Ltd | 15.85
Jiawei Solarchina (Shenzhen) Co., Ltd | 15.85
JingAo Solar Co., Ltd | 15.85
LERRI Solar Technology Co., Ltd. (aka LONGi Solar Technology Co. Ltd.) | 15.85
Lightway Green New Energy Co., Ltd | 15.85
Ningbo Qixin Solar Electrical Appliance Co., Ltd | 15.85
Risen Energy Co., Ltd | 15.85
Shanghai JA Solar Technology Co., Ltd | 15.85
Shenzhen Topray Solar Co., Ltd | 15.85
Sumec Hardware & Tools Co., Ltd | 15.85
Sunpreme Jiaxing Ltd | 15.85
tenKsolar (Shanghai) Co., Ltd | 15.85
Wuxi Suntech Power Co., Ltd/Luoyang Suntech Power Co., Ltd | 15.85
Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd | 15.85
Zhejiang ERA Solar Technology Co., Ltd | 15.85
Zhejiang Sunflower Light Energy Science & Technology Limited Liability Company | 15.85

Commerce's change in policy regarding conditional review of the China-wide entity applies to this administrative review.¹² Under this policy, the China-wide entity will not be under review unless a party specifically requests, or Commerce self-initiates, a review of the entity. Because no party requested a review of the China-wide entity, we did not conduct a review of the China-wide entity. Thus, the weighted-average dumping margin for the China-wide entity (i.e., 238.95 percent) is not subject to change as a result of this review.¹³

¹² See Antidumping Proceedings: Announcement of Change in Department Practice for Respondent Selection in Antidumping Duty Proceedings and Conditional Review of the Nonmarket Economy Entity in NME Antidumping Duty Proceedings, 78 FR 65963, 65969-70 (November 4, 2013).

¹³ See Crystalline Silicon Photovoltaic Cells, Whether or Not Assembled Into Modules, From the People's Republic of China: Final Results of Antidumping Duty Administrative Review and Final Determination of No Shipments; 2014-2015, 82 FR 29033 (June 27, 2017).

Assessment

Commerce will determine, and CBP shall assess, antidumping duties on all appropriate entries covered by this review. Commerce intends to issue assessment instructions to CBP 15 days after the publication date of these Final Results of review. In accordance with 19 CFR 351.212(b)(1), we are calculating importer- (or customer-)specific assessment rates for the merchandise subject to this review. For any individually examined respondent whose weighted-average dumping margin is above de minimis (i.e., 0.50 percent), Commerce will calculate importer- (or customer-)specific assessment rates for merchandise subject to this review. Where the respondent reported reliable entered values, Commerce calculated importer- (or customer-)specific ad valorem rates by aggregating the dumping margins calculated for all U.S. sales to the importer (or customer) and dividing this amount by the total entered value of the sales to the importer (or customer).¹⁴ Where Commerce calculated an importer- (or customer-)specific weighted-average dumping margin by dividing the total amount of dumping for reviewed sales to the importer (or customer) by the total sales quantity associated with those transactions, Commerce will direct CBP to assess importer- (or customer-)specific assessment rates based on the resulting per-unit rates.¹⁵ Where an importer- (or customer-)specific ad valorem or per-unit rate is greater than de minimis, Commerce will instruct CBP to collect the appropriate duties at the time of liquidation. Where either the respondent's weighted average dumping margin is zero or de minimis, or an importer- (or customer-)specific ad valorem or per-unit rate is zero or de minimis, Commerce will instruct CBP to liquidate appropriate entries without regard to antidumping duties.¹⁶

¹⁴ See 19 CFR 351.212(b)(1).

¹⁵ Id.

¹⁶ See Antidumping Proceedings: Calculation of the Weighted-Average Dumping Margin and Assessment Rate in Certain Antidumping Duty Proceedings; Final Modification, 77 FR 8101, 8103 (February 14, 2012).

For merchandise whose sale/entry was not reported in the U.S. sales database submitted by an exporter individually examined during this review, but that entered under the case number of that exporter (i.e., at the individually-examined exporter's cash deposit rate), Commerce will instruct CBP to liquidate such entries at the China-wide rate. Additionally, if Commerce determines that an exporter under review had no shipments of the subject merchandise, any suspended entries that entered under that exporter's case number will be liquidated at the China-wide rate.¹⁷

¹⁷ See Non-Market Economy Antidumping Proceedings: Assessment of Antidumping Duties, 76 FR 65694 (October 24, 2011), for a full discussion of this practice.

Cash Deposit Requirements

The following cash deposit requirements will be effective upon publication of the Final Results of this administrative review for shipments of the subject merchandise from China entered, or withdrawn from warehouse, for consumption on or after the publication date of this notice in the Federal Register, as provided by section 751(a)(2)(C) of the Act: (1) For the exporters listed above, the cash deposit rate will be the rate listed for each exporter in the table in the “Final Results of Review” section of this notice, except if the rate is zero or de minimis (i.e., less than 0.5 percent), then the cash deposit rate will be zero; (2) for previously investigated Chinese and non-Chinese exporters that received a separate rate in a prior segment of this proceeding, the cash deposit rate will continue to be the existing exporter-specific rate; (3) for all Chinese exporters of subject merchandise that have not been found to be entitled to a separate rate, the cash deposit rate will be the rate previously established for the PRC-wide entity (i.e., 238.95 percent); and (4) for all non-China exporters of subject merchandise which have not received their own rate, the cash deposit rate will be the rate applicable to the Chinese exporter that supplied the non-Chinese exporter. These deposit requirements, when imposed, shall remain in effect until further notice.

Disclosure

We intend to disclose the calculations performed for these Final Results within five days of publication of this notice in the Federal Register in accordance with 19 CFR 351.224(b).

Notification to Importers Regarding the Reimbursement of Duties

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This determination is issued and published in accordance with sections 751(a)(1) and 777(i)(1) of the Act and 19 CFR 351.221(b)(5).

Dated: July 11, 2018.
Gary Taverman,
Deputy Assistant Secretary for Antidumping and Countervailing Duty Operations, performing the non-exclusive functions and duties of the Assistant Secretary for Enforcement and Compliance.

Appendix—Issues and Decision Memorandum

Summary

Background

Scope of the Order

Discussion of the Issues

Comment 1. Whether Commerce Should Apply Partial Adverse Facts Available to Trina's Unreported Factors of Production for Purchased Solar Cells

Comment 2. Ministerial Error Allegations

Comment 3. Whether Commerce Should Adjust the U.S. Price for “USDUTYU” Expenses

Comment 4. Whether Commerce Should Include Trina's Sale to a Salvage Company in the Margin Calculation

Comment 5. Whether Commerce Should Adjust U.S. Price for the Export Buyer's Credits Program

Comment 6. Zero-Quantity Import Data

Comment 7. Surrogate Value for Aluminum Frames

Comment 8. Surrogate Value for International Freight

Comment 9. Surrogate Value for Nitrogen

Comment 10. Selection of Surrogate Financial Statements

Comment 11. Surrogate Value for Labor

Comment 12. Separate Rate Status for LONGi Solar Technology Co. Ltd.

Comment 13. Differential Pricing

Recommendation

[FR Doc. 2018-16072 Filed 7-26-18; 8:45 am]

BILLING CODE 3510-DS-P